DEPARTMENT OF HOMELAND SECURITY

Federal Emergency Management Agency

44 CFR Part 67

[Docket No. FEMA-P-7923]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground: Effective | *Elevation in feet (NGVD) +Elevation in feet (NAVD) #Depth in feet above ground: Modified | Communities affected
Fairfield County, Ohio and Incorporated Areas
Blacklick Creek | Just upstream of Tussing Road | *827 | *826 | Fairfield County (Unincorporated Areas).
| Approximately 190 feet Downstream of U.S. Interstate 70 Eastbound | *829 | *828 |
Georges Creek | Approximately 350 feet downstream of Long Road | *793 | *791 | City of Pickerington.
| Approximately 150 feet upstream of Pickerington Ridge Drive | None | *816 |
Georges Creek Overflow | Approximately 2,690 feet downstream of the divergence from Georges Creek | None | *800 | City of Pickerington.
| At the divergence from Georges Creek | None | *807 |
* National Geodetic Vertical Datum.
# Depth in feet above ground.
+ North American Vertical Datum.
ADDRESSES
Fairfield County (Unincorporated Areas)
Maps are available for inspection at the Community Map Repository, Fairfield County Regional Planning Commission, 210 East Main Street, Lancaster, Ohio.
Send comments to Ms. Judy Shupe, President, Board of County Commissioners, 210 East Main Street, Lancaster, Ohio 43140.
City of Pickerington, Fairfield and Franklin Counties
Maps are available for inspection at the Community Map Repository, City of Pickerington, City Hall, 100 Lockville Road, Pickerington, Ohio.
Send comments to The Honorable David B. Shaver, Mayor, City of Pickerington, City Hall, 100 Lockville Road, Pickerington, Ohio 43147.
Franklin County, Ohio and Incorporated Areas
Blacklick Creek | Approximately 3,930 feet upstream of Refugee Road | *802 | *803 | City of Columbia.
| Approximately 300 feet downstream of U.S. Interstate 70 Eastbound | *829 | *828 |
Coble-Bowman Ditch | Approximately 500 feet downstream of Bixby Road/County Highway 229 | *741 | *742 | Franklin County (Unincorporated Areas).
| Approximately 4,500 feet upstream of Winchester Pike/County Highway 376 | None | *760 |
Georges Creek | Approximately 90 feet upstream of Conrail | *748 | *749 | Franklin County (Unincorporated Areas)
| Approximately 2,200 feet upstream of Long Road/County Highway 220 (limit of flooding affecting Franklin County | *801 | *799 | Village of Canal Winchester City of Columbus.
Georges Creek Overland Flow | At the confluence with Georges Creek | *748 | *749 | Franklin County (Unincorporated Areas).
| Approximately 1,440 feet upstream of confluence with Georges Creek | *748 | *749 |
Georges Creek Split Flow | At the convergence with Georges Creek | *779 | *777 | Franklin County (Unincorporated Areas).
| At the divergence from Georges Creek | *785 | *784 | City of Columbus.
Georges Creek Overflow | Approximately 150 feet upstream of the convergence with Blacklick Creek | *795 | *796 | City of Columbus.
| Approximately 3,560 feet upstream of the convergence with Blacklick Creek | None | *800 |
* National Geodetic Vertical Datum.
# Depth in feet above ground.
+ North American Vertical Datum.
ADDRESSES
Village of Canal Winchester
Maps are available for inspection at The Canal Winchester Municipal Building, 36 South High Street, Canal Winchester, Ohio.
Send comments to The Honorable Jeffery J. Miller, Mayor, Village of Canal Winchester, 36 South High Street, Canal Winchester, Ohio 43110.
City of Columbus
Maps are available for inspection at The Building Services Division, 757 Carolyn Avenue, Columbus, Ohio.
Send comments to The Honorable Michael B. Coleman, Mayor, City of Columbus, 90 West Broad Street, Room 247, Columbus, Ohio 43215.
Franklin County (Unincorporated Areas)
Maps are available for inspection at Franklin County Economic Development and Planning Department, 280 East Broad Street, Room 202, Columbus, Ohio.
Send comments to Ms. Paula Brooks, President, Franklin County Board of Commissioners, 373 South High Street, 26th Floor, Columbus, Ohio 43215.

(Catalog of Federal Domestic Assistance No. 83.100, “Flood Insurance.”)

Dated: October 5, 2006.
David I. Maurstad,
Director, Mitigation Division, Federal Emergency Management Agency, Department of Homeland Security.

[FR Doc. E6-18325 Filed 10-31-06; 8:45 am]

BILLING CODE 9110-12-P